DEPARTMENT OF ENERGY

Federal Energy Regulatory Commission

[Project No. 13511-000]

Igiugig Village Council; Notice of Effectiveness of Withdrawal of Application for Amendment of License

On April 3, 2023, the Igiugig Village Council (licensee) filed an application for amendment of license for the 70.0-kilowatt Igiugig Hydrokinetic Project No. 13511. On May 26, 2023, the licensee filed a request to withdraw its application.

No motion in opposition to the request for withdrawal has been filed, and the Commission has taken no action to disallow the withdrawal. Pursuant to Rule 216(b) of the Commission's Rules of Practice and Procedure,¹ the withdrawal of the application became effective on June 12, 2023, and this proceeding is hereby terminated.²

¹ 18 CFR 385.216(b) (2022).

² The Commission's Rules of Practice and Procedure provide that if a deadline falls on a Saturday, Sunday, holiday, or other day when the Commission is closed for business, the deadline does not end until the close of business on the next business day. 18 CFR 385.2007(a)(2) (2022). Because the 15-day deadline fell on a Saturday (i.e., June 10, 2023), the deadline was extended until the close of business on Monday, June 12, 2023.

Dated: June 15, 2023.
Kimberly D. Bose,
Secretary.

[FR Doc. 2023-13255 Filed 6-21-23; 8:45 am]

BILLING CODE 6717-01-P